DEPARTMENT OF TRANSPORTATION

Federal Aviation Administration

14 CFR Part 39

[Docket No. FAA-2013-0300; Directorate Identifier 2011-NM-163-AD; Amendment 39-18339; AD 2015-25-01]

RIN 2120-AA64

Airworthiness Directives; The Boeing Company Airplanes

AGENCY: Federal Aviation Administration (FAA), DOT.

ACTION: Final rule.

SUMMARY: We are adopting a new airworthiness directive (AD) for certain The Boeing Company Model 757-200, 757-200CB, and 757-200PF airplanes. This AD was prompted by a report that a forward-most cam latch of the forward center cam latch pair on a main cargo door (MCD) broke during flight. This AD requires doing a general visual inspection for broken or missing cam latches, latch pins, and latch pin cross bolts; torqueing the cross bolts in the latch pins; measuring the extension of the latch pins; replacing all alloy steel cross bolts through the latch pins with corrosion resistant steel (CRES) cross bolts; doing a general visual inspection of all cam latches for lip deformation; doing an inspection of cam latch 1 and cam latch 2 for cracks and replacing all cracked or broken parts; checking the rig of the MCD and re-rigging as applicable; and doing related investigative and corrective actions, if necessary. This AD also requires doing certain repetitive inspections until MCD rigging is done. This AD also requires repetitive MCD post-rigging inspections and corrective actions if necessary. We are issuing this AD to detect and correct discrepancies of the cam latches, latch pins, and latch pin cross bolts, which could reduce the structural integrity of the MCD, and result in potential loss of the cargo door and rapid decompression of the airplane.

DATES: This AD is effective January 26, 2016.

The Director of the Federal Register approved the incorporation by reference of a certain publication listed in this AD as of January 26, 2016.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, Washington. For information on the availability of this material at the FAA, call 425-227-1221. It is also available on the Internet at http://www.regulations.gov by searching for and locating Docket No. FAA-2013-0300.

Examining the AD Docket

You may examine the AD docket on the Internet at http://www.regulations.gov by searching for and locating Docket No. FAA-2013-0300; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Kimberly DeVoe, Aerospace Engineer, Cabin Safety and Environmental Systems Branch, ANM-150S, FAA, Seattle Aircraft Certification Office, 1601 Lind Avenue SW., Renton, WA 98057-3356; phone: 425-917-6495; fax: 425-917-6590; email: kimberly.devoe@faa.gov.

SUPPLEMENTARY INFORMATION:

Discussion

We issued a notice of proposed rulemaking (NPRM) to amend 14 CFR part 39 by adding an AD that would apply to certain The Boeing Company Model 757-200, 757-200CB, and 757-200PF airplanes. The NPRM published in the Federal Register on April 11, 2013 (78 FR 21576). The NPRM was prompted by a report that a forward-most cam latch of the forward center cam latch pair on a MCD broke during flight. The NPRM proposed to require performing repetitive inspections of the MCD cam latches; replacing cam latches, certain bolts, and door hinge fittings; performing related investigative and corrective actions, if necessary; and MCD rigging. We are issuing this AD to detect and correct discrepancies of the cam latches, latch pins, and latch pin cross bolts, which could reduce the structural integrity of the MCD, and result in potential loss of the cargo door and rapid decompression of the airplane.

Actions Since the NPRM (78 FR 21576, April 11, 2013) Was Issued

Since we issued the NPRM (78 FR 21576, April 11, 2013), we have reviewed Boeing Alert Service Bulletin 757-52A0091, Revision 1, dated December 19, 2014. We referred to Boeing Alert Service Bulletin 757-52A0091, dated March 9, 2010, as the appropriate source of service information for accomplishing the actions specified in the NPRM. Boeing Alert Service Bulletin 757-52A0091, Revision 1, dated December 19, 2014, clarifies the inspection conditions and the on-condition actions for certain conditions. Certain inspections of the cam latches and latch pins were changed from detailed inspections to general visual inspections. Also, a detailed inspection of mating parts and immediately adjacent cam latches and latch pins for any cracks, or any gouges in critical areas was added to certain on-condition actions specified in the service information.

Also, the on-condition action for latch pin extensions that are between 0.84 and 0.89 inch or between 0.91 and 0.94 inch was changed. For those latch pins, Boeing Alert Service Bulletin 757-52A0091, dated March 9, 2010, specifies repetitive detailed inspections and certain other specified actions. However, for those latch pins, Boeing Alert Service Bulletin 757-52A0091, Revision 1, dated December 19, 2014, specifies replacement of the discrepant latch pin, a detailed inspection, and certain other specified actions (which are the same on-condition actions specified in Boeing Alert Service Bulletin 757-52A0091, dated March 9, 2010, for latch pin extensions that are less than 0.84 inch or greater than 0.94 inch).

Explanation of Certain Changes to NPRM (78 FR 21576, April 11, 2013)

We have revised paragraphs (c), (g), (h), (j)(1), and (j)(2) of this AD to refer to Boeing Alert Service Bulletin 757-52A0091, Revision 1, dated December 19, 2014. We have also added new paragraph (k) of this AD to give credit for doing actions before the effective date of this AD in accordance with Boeing Alert Service Bulletin 757-52A0091, dated March 9, 2010. We have redesignated subsequent paragraphs accordingly.

In addition, since certain inspections and conditions were revised in Boeing Alert Service Bulletin 757-52A0091, Revision 1, dated December 19, 2014, we have revised the description of the actions in this AD to correspond with the terminology in Boeing Alert Service Bulletin 757-52A0091, Revision 1, dated December 19, 2014. As a result, certain paragraphs in the proposed AD (78 FR 21576, April 11, 2013) have been rearranged and the corresponding paragraph identifiers have been redesignated in this AD, as listed in the following table:

Revised Paragraph Identifiers
Action in the NPRM (78 FR 21576, April 11, 2013) | Corresponding requirement in this AD
paragraph (g) | paragraph (g)
paragraph (h) | paragraph (g)
paragraph (i) | paragraph (h)
paragraph (j) | paragraph (h)
paragraph (k) | paragraph (i)
paragraph (l) | paragraph (j)

We have also revised the Costs of Compliance paragraph in this final rule to reflect the work-hours in Boeing Alert Service Bulletin 757-52A0091, Revision 1, dated December 19, 2014.

Comments

We gave the public the opportunity to participate in developing this AD. The following presents the comments received on the NPRM (78 FR 21576, April 11, 2013) and the FAA's response to each comment.

Clarification of Applicability

FedEx stated that it would withhold its comments because the FedEx Express Model 757 fleet was converted to freighters under ST Aerospace Mobile Engineering Inc. Supplemental Type Certificate (STC) ST03562AT (http://rgl.faa.gov/Regulatory_and_Guidance_Library/rgstc.nsf/0/C21335554C0E37C4862574B20065BA46?OpenDocument&Highlight=st03562at), which was not mentioned in the applicability of the NPRM (78 FR 21576, April 11, 2013). Fedex stated it would withhold its comments unless and until an NPRM is issued for STC ST03562AT.

We acknowledge FedEx's comment. As specified in paragraph (c) of this AD, this AD applies to Model 757-200, 757-200CB, and 757-200PF airplanes as identified in Boeing Alert Service Bulletin 757-52A0091, Revision 1, dated December 19, 2014. The effectivity of Boeing Alert Service Bulletin 757-52A0091, Revision 1, dated December 19, 2014, identifies the affected airplanes by variable number.

Request To Emphasize Inspection Conditions/Findings of the NPRM (78 FR 21576, April 11, 2013)

Boeing requested that paragraph (h) of the proposed AD (78 FR 21576, April 11, 2013) be rewritten to clarify the relative severity of the inspection conditions and the appropriate actions needed. Boeing stated that the actions in paragraph (h) of the proposed AD should progress from the most serious condition findings to the least serious findings while providing logical evaluation paths for the conditions.

We agree that the progression of the inspection conditions and their appropriate related investigative and corrective actions should correspond with what is described in the referenced service information. As stated previously, we have revised the terminology in this final rule to match the actions (e.g., inspections and related investigative and corrective actions) specified in Boeing Alert Service Bulletin 757-52A0091, Revision 1, dated December 19, 2014, which addresses the commenter's concerns.

Request To Delay AD Issuance Pending Revised Service Information

European Air Transport Leipzig GmbH/DHL Air Ltd. (EATL/DHL) requested that we delay issuing the AD until applicable service information is revised. EATL/DHL stated that despite accomplishing the re-rigging using the current service information, it continues to find wear on the cam latches during post-rigging inspections, and has had to replace a total of 69 cam latches and 17 latch pins in one year. As a result, EATL/DHL stated that the financial impact is higher than the inspection costs only.

EATL/DHL stated that a rigging check of the cam hook mechanism must be included in Boeing Alert Service Bulletin 757-52A0091 to address the identified unsafe condition. EATL/DHL stated that unintended wear of the cam latches can be avoided only by first re-rigging the cam hook mechanism to either side of the door to ensure that the cam latches and latch pins are involved only in the door-locking process and not in the door-closing process. EATL/DHL stated that it has been adjusting the cam hook mechanism using the cam hook adjustment procedure in the applicable airplane maintenance manual (AMM), but that it is difficult to attain the tolerances stated in that AMM procedure. EATL/DHL concluded that the AMM procedure must be clarified and simplified.

We disagree with delaying this AD until revised service information that includes a new AMM procedure is available. We understand that there could be additional root causes and procedures that need to be clarified if operators, experienced with accomplishing the current procedures, determine that there are more effective means of accomplishing the repairs. However, we disagree with delaying issuance of this final rule until service information containing revised re-rigging procedures becomes available. We have determined that the actions specified in this AD using Boeing Alert Service Bulletin 757-52A0091, Revision 1, dated December 19, 2014, are an effective means of accomplishing the repairs. Accomplishing the actions required by this AD adequately addresses the identified unsafe condition. We have determined that to delay this final rule would be inappropriate, because inspections and repairs to the MCD cam latches are needed to reduce the risk of the identified unsafe condition. Operators should continue to communicate any findings resulting from failures, as well as deficiencies in maintenance documentation, to Boeing so that inspection and repair procedures can be reviewed and revised as necessary. Operators can always request approval of an AMOC under the provisions of paragraph (l) of this AD if alternative re-rigging procedures are available and address the identified unsafe condition. We have not changed this final rule in this regard.

Request To Revise Compliance Time

UPS requested that we revise paragraphs (g), (h), and (i) of the proposed AD (78 FR 21576, April 11, 2013) to remove all references to service information containing compliance times stated in calendar days. UPS stated that crack initiation and subsequent propagation is dependent on flight cycles due to pressurization and/or flight loads, and not to MCDs sitting idle, so the use of calendar days is irrelevant. UPS stated that removing calendar days should have no negative effect on safety, and that a calendar-based compliance schedule merely imposes economic, maintenance, and scheduling burdens. UPS also questioned the need for repetitive inspections of the MCD cam latches, and stated that it does not concur with the finding that improper door rigging is the root cause of failure. UPS stated that the only identified direct cause of cam latch failure is a sheared cross bolt that migrated into the cam envelope, and that initial inspections would identify cases of sheared cross bolts, migrated pins, corrosion, lip deformation, etc. UPS asked what changes occur to the system that warrant reinspection if the latch system far exceeds 10−⁹ reliability, after the root cause of the failed latch is resolved.

We disagree with the request to remove all compliance times stated in calendar days from this final rule or to remove the repetitive inspections because the damage was determined to have been brought on by a poorly rigged MCD and the torque impact from the cam latch rotation during latching and unlatching operations. Therefore, it is possible for the MCD system to be changed after a failed latch has been repaired.

For this reason, a calendar-based inspection interval has been calculated along with the flight cycle interval, as specified in table 1 of paragraph 1.E., “Compliance,” of Boeing Alert Service Bulletin 757-52A0091, Revision 1, dated December 19, 2014. Paragraph (g) of this AD requires compliance within the times specified in table 1 of paragraph 1.E., “Compliance,” of Boeing Alert Service Bulletin 757-52A0091, Revision 1, dated December 19, 2014.

However, paragraph (h) of this AD requires compliance within the times specified in table 2 of paragraph 1.E., “Compliance,” of Boeing Alert Service Bulletin 757-52A0091, Revision 1, dated December 19, 2014, which specifies repetitive intervals in flight cycles only.

Specific changes in compliance time or inspection intervals may be requested by submitting a request for approval of an AMOC according to the procedures specified in paragraph (l) of this AD. We have not changed this final rule in this regard.

Request To Extend Compliance Time

UPS requested that if calendar-based compliance times are retained, for airplanes that had successfully passed the initial detailed inspections of the cam latches and latch pins, torqued the cross bolts, and measured the latch pin extension, the next inspection be extended by 3,000 flight cycles or 24 months.

We disagree with extending the compliance times of this AD. However, we note that certain inspections required by this AD are at the intervals specified by the commenter. In developing an appropriate compliance time for these actions, we considered the urgency associated with the subject unsafe condition, the practical aspect of accomplishing the required modification and the normal scheduled maintenance times for most affected operators. In consideration of these items, we have determined that the repetitive intervals specified in tables 1 and 2 of paragraph 1.E., “Compliance,” of Boeing Alert Service Bulletin 757-52A0091, Revision 1, dated December 19, 2014, will ensure an acceptable level of safety. No change has been made to this AD in this regard.

Request To Allow Ferry Flight

UPS requested that we revise the proposed AD (78 FR 21576, April 11, 2013) to allow an airplane having a discrepant cam/pin to be ferried to a location where the airplane can be modified. UPS stated that, since significant loads are the result of the pressurization and/or flight loads, and not the result of whether the door is closed, an airplane with findings needs to be ferried to a maintenance facility for repair, especially in view of the given proposed time frames for the inspection.

We agree that special flight permits should be allowed because the inspection intervals do not necessarily correspond to scheduled maintenance intervals, and allowance should be made for operators to ferry an airplane to a location where repairs can be made without the need to request a special flight permit. Unpressurized flight does not subject the airplane to possible rapid decompression of the airplane should the damaged cam latch, latch pin, or latch pin cross bolt fail, resulting in loss of the MCD during flight.

However, it is not necessary to revise this final rule because special flight permits are already allowed. Unless otherwise specified in the AD, special flight permits are currently allowed as described in section 21.197 and section 21.199 of the Federal Aviation Regulations (14 CFR 21.197 and 21.199) to operate the airplane to a location where the airplane can be modified (if the operator elects to do so), provided no passengers are onboard. We do not find it necessary to change the final rule in this regard.

Conclusion

We reviewed the relevant data, considered the comments received, and determined that air safety and the public interest require adopting this AD with the changes described previously—and minor editorial changes. We have determined that these minor changes:

• Αre consistent with the intent that was proposed in the NPRM (78 FR 21576, April 11, 2013) for correcting the unsafe condition; and

• Do not add any additional burden upon the public than was already proposed in the NPRM (78 FR 21576, April 11, 2013).

We also determined that these changes will not increase the economic burden on any operator or increase the scope of this AD.

Related Service Information Under 1 CFR Part 51

We reviewed Boeing Alert Service Bulletin 757-52A0091, Revision 1, dated December 19, 2014. The service information describes procedures for doing a general visual inspection for broken or missing cam latches, latch pins, and latch pin cross bolts; torqueing the cross bolts in the latch pins; measuring the extension of the latch pins; replacing all alloy steel cross bolts through the latch pins with CRES cross bolts; doing a general visual inspection of all cam latches for lip deformation; doing a high frequency eddy current (HFEC) or magnetic particle inspection of cam latch 1 and cam latch 2 for cracks and replacing all cracked or broken parts; checking the rig of the MCD and re-rigging as applicable; and doing related investigative and corrective actions. The service information also describes doing repetitive inspections for certain conditions specified in the service information, which end after the MCD rigging is done as specified in the service information. The service information also describes procedures for doing MCD post-rigging inspections and corrective actions. This service information is reasonably available because the interested parties have access to it through their normal course of business or by the means identified in the ADDRESSES section.

Costs of Compliance

We estimate that this AD affects 9 airplanes of U.S. registry.

We estimate the following costs to comply with this AD:

Estimated Costs
Action | Labor cost | Parts cost | Cost per product | Cost on U.S. operators
Inspections, torque, and measurement | 4 work-hours × $85 per hour = $340 | None | $340 | $3,060
Rigging MCD and replacing bolts | 49 work-hours × $85 per hour = $4,165 | 0 [1] | 4,165 | 37,485
[1] We have received no definitive data that would enable us to provide parts cost for the bolt replacement specified in this AD.

We estimate the following costs to do any necessary related investigative actions and certain replacements that would be required based on the results of the inspections. We have no way of determining the number of aircraft that might need these actions:

On-Condition Costs
Action | Labor cost | Parts cost | Cost per product
Related investigative actions | 2 work-hours × $85 per hour = $170 | $0 | $170
Replacements of broken/missing parts | 2 work-hours × $85 per hour = $170 | [2] 0 | 170
[2] We have received no definitive data that would enable us to provide parts cost for the part replacements specified in this AD.

We also have received no definitive data that would enable us to provide cost estimates for the on-condition repair specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-25-01 The Boeing Company: Amendment 39-18339; Docket No. FAA-2013-0300; Directorate Identifier 2011-NM-163-AD.

(a) Effective Date

This AD is effective January 26, 2016.

(b) Affected ADs

None.

(c) Applicability

This AD applies to The Boeing Company Model 757-200, 757-200CB, and 757-200PF airplanes; certificated in any category; as identified in Boeing Alert Service Bulletin 757-52A0091, Revision 1, dated December 19, 2014.

(d) Subject

Air Transport Association (ATA) of America Code 52, Doors.

(e) Unsafe Condition

This AD was prompted by a report that a forward-most cam latch on the forward center cam latch pair on a main cargo door (MCD) broke during flight. We are issuing to detect and correct cracked or damaged cam latches, latch pins, and latch pin cross bolts, which could reduce the structural integrity of the MCD, and result in potential loss of the cargo door and rapid decompression of the airplane.

(f) Compliance

Comply with this AD within the compliance times specified, unless already done.

(g) Repetitive MCD Inspections, Other Specified Actions, Related Investigative Actions, and Corrective Actions (Including Bolt Replacement and MCD Rigging)

At the applicable times specified in table 1 of paragraph 1.E., “Compliance,” of Boeing Alert Service Bulletin 757-52A0091, Revision 1, dated December 19, 2014, except as provided by paragraph (j)(1) of this AD: Do a general visual inspection for broken or missing cam latches, latch pins, and latch pin cross bolts; torque the cross bolts in the latch pins; measure the extension of the latch pins; replace all alloy steel cross bolts through the latch pins with corrosion resistant steel (CRES) cross bolts; do a general visual inspection of all cam latches for lip deformation; do a high frequency eddy current (HFEC) or magnetic particle inspection of cam latch 1 and cam latch 2 for cracks and replace all cracked or broken parts; check the rig of the MCD and re-rig as applicable; and do all applicable related investigative and corrective actions; and thereafter do all applicable repetitive inspections specified in paragraphs (g)(1), (g)(2), and (g)(3) of this AD, in accordance with the Accomplishment Instructions of Boeing Alert Service Bulletin 757-52A0091, Revision 1, dated December 19, 2014, except as required by paragraph (j)(2) of this AD. Do all applicable related investigative and corrective actions at the applicable time specified in table 1 of paragraph 1.E., “Compliance,” of Boeing Alert Service Bulletin 757-52A0091, Revision 1, dated December 19, 2014. Do all applicable repetitive inspections at the applicable time and intervals specified in table 1 of paragraph 1.E., “Compliance,” of Boeing Alert Service Bulletin 757-52A0091, Revision 1, dated December 19, 2014, until the rig of the MCD has been checked in accordance with the Accomplishment Instructions of Boeing Alert Service Bulletin 757-52A0091, Revision 1, dated December 19, 2014.

(1) For Condition 2 as defined in Boeing Alert Service Bulletin 757-52A0091, Revision 1, dated December 19, 2014: Do repetitive general visual inspections for broken or missing cam latches, latch pins, and latch pin cross bolts.

(2) For Condition 3 as defined in Boeing Alert Service Bulletin 757-52A0091, Revision 1, dated December 19, 2014: Repetitive general visual inspections for broken or missing cam latches, latch pins, and latch pin cross bolts and repetitive detailed inspections of the discrepant cam latch and mating latch pin for any cracks, or gouges in critical areas.

(3) For Condition 4 as defined in Boeing Alert Service Bulletin 757-52A0091, Revision 1, dated December 19, 2014: Repetitive general visual inspections for broken or missing cam latches, latch pins, and latch pin cross bolts; repetitive detailed inspections of the cam latches and latch pins for any cracks, or any gouges in critical areas; and, unless replaced with new or reworked parts, repetitive HFEC or magnetic particle inspections of cam latch 1 and cam latch 2 for any cracks.

(h) Repetitive MCD Post-Rigging Inspections and Corrective Actions

At the applicable times specified in table 2 of paragraph 1.E., “Compliance,” of Boeing Alert Service Bulletin 757-52A0091, Revision 1, dated December 19, 2014: Do general visual inspections for any broken or missing cam latches, latch pins, and latch pin cross bolts; a detailed inspection of the cam latches and latch pins for any cracks, or any gouges in critical areas; and an HFEC or magnetic particle inspection of cam latch 1 and cam latch 2 for cracks; and do all applicable corrective actions, in accordance with the Accomplishment Instructions of Boeing Alert Service Bulletin 757-52A0091, Revision 1, dated December 19, 2014; except as required by paragraph (j)(2) of this AD. Do all applicable corrective actions before further flight. Repeat the inspections thereafter at the applicable times specified in table 2 of paragraph 1.E., “Compliance,” of Boeing Alert Service Bulletin 757-52A0091, Revision 1, dated December 19, 2014.

(i) Parts Installation Prohibition

As of the effective date of this AD, no person may install an alloy steel bolt as a cross bolt through any latch pin fitting assembly in the lower sill of the MCD on any airplane.

(j) Exceptions to Service Bulletin Specifications

The following exceptions apply in this AD.

(1) Where Boeing Alert Service Bulletin 757-52A0091, Revision 1, dated December 19, 2014, specifies a compliance time after the original issue date of that service bulletin, this AD requires compliance within the specified compliance time after the effective date of this AD.

(2) Where Boeing Alert Service Bulletin 757-52A0091, Revision 1, dated December 19, 2014, specifies to contact Boeing for appropriate action: Before further flight, repair using a method approved in accordance with the procedures specified in paragraph (l) of this AD.

(k) Credit for Previous Actions

This paragraph provides credit for the corresponding actions required by paragraphs (g) and (h) of this AD, if those actions were done before the effective date of this AD, using Boeing Alert Service Bulletin 757-52A0091, dated March 9, 2010, which is not incorporated by reference in this AD.

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane and the approval must specifically refer to this AD.

(m) Related Information

(1) For more information about this AD, contact Kimberly DeVoe, Aerospace Engineer, Cabin Safety and Environmental Systems Branch, ANM-150S, FAA, Seattle Aircraft Certification Office, 1601 Lind Avenue SW., Renton, WA 98057-3356; phone: 425-917-6495; fax: 425-917-6590; email: kimberly.devoe@faa.gov.

(2) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 757-52A0091, Revision 1, dated December 19, 2014.

(ii) Reserved.

(3) For service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on November 25, 2015.
Michael Kaszycki,
Acting Manager, Transport Airplane Directorate, Aircraft Certification Service.

[FR Doc. 2015-30818 Filed 12-21-15; 8:45 am]

BILLING CODE 4910-13-P